DEPARTMENT OF TRANSPORTATION

[Docket No. DOT-OST-2021-0038]

Agency Request for Renewal and Revision of a Previously Approved Information Collection: Information Associated With the Aviation Manufacturing Jobs Protection (AMJP) Program

AGENCY: U.S. Department of Transportation.

ACTION: Notice and request for comments.

SUMMARY: The Department of Transportation (DOT) invites public comments about our intention to request the Office of Management and Budget (OMB) approval to renew and revise an information collection. The DOT is seeking public comment under normal Paperwork Reduction Act procedures to continue the collection entitled “Aviation Manufacturing Jobs Protection,” which was approved under an emergency clearance approval by OMB through November 30, 2021. The purpose of the original information collection was to enable eligible business entities to apply for payroll assistance under the “Aviation Manufacturing Jobs Protection” program, established by the American Rescue Plan Act of 2021. The continued information collection is necessary to ensure that eligible recipients continue to meet eligibility requirements and are compliant with use of funds to provide payroll support for the established eligible employee group. The continued information collection will also seek voluntary demographic information for program evaluation purposes. We are required to publish this notice in the Federal Register by the Paperwork Reduction Act of 1995.

DATES: Written comments should be submitted by November 22, 2021.

ADDRESSES: You may submit comments identified by Federal Docket Management System (FDMS) Docket Number DOT-OST-2021-0038 using any of the following methods:

• Federal eRulemaking Portal: http://www.regulations.gov. Follow the online instructions for submitting comments.

• Fax: 202-493-2251.

• Mail: Docket Operations; U.S. Department of Transportation, 1200 New Jersey Avenue SE, West Building, Ground Floor, Room W12-140, Washington, DC 20590-0001.

• Hand Delivery or Courier: U.S. Department of Transportation, West Building, Ground Floor, Room W12-140, 1200 New Jersey Avenue SE, Washington, DC, between 9:00 a.m. and 5:00 p.m., Eastern time, Monday through Friday, except Federal holidays.

• Instructions: All submissions must include the Agency name and docket number. For detailed instructions on submitting comments, see the Public Participation heading below. Note that all comments received will be posted without change to http://www.regulations.gov, including any personal information provided. Please see the Privacy Act heading below.

• Privacy Act: Anyone is able to search the electronic form of all comments received into any of our dockets by the name of the individual submitting the comment (or signing the comment, if submitted on behalf of an association, business, labor union, etc.). You may review DOT's complete Privacy Act Statement for the Federal Docket Management System published in the Federal Register on January 17, 2008 (73 FR 3316), or you may visit https://www.federalregister.gov/d/E8-785.

• Public Participation: The Federal eRulemaking Portal is available 24 hours each day, 365 days each year. You can obtain electronic submission and retrieval help and guidelines under the “help” section of the Federal eRulemaking Portal website. If you want us to notify you that we received your comments, please include a self-addressed, stamped envelope or postcard, or print the acknowledgement page that appears after submitting comments online.

FOR FURTHER INFORMATION CONTACT: Information related to this Information Collection Request, including applicable supporting documentation may be obtained by contacting Alexus Jenkins-Reid (OST-B1), in the Office of the Secretary of Transportation, 1200 New Jersey Avenue SE, Washington, DC 20590, via telephone at (202) 366-5112, or via email at AMJP@dot.gov.

SUPPLEMENTARY INFORMATION: OMB Control Number: 2106-0048.

Title: Information Associated With the Aviation Manufacturing Jobs Protection (AMJP) Program.

Form Numbers: New Forms AMJP-1A.2.2, AMJP-1A.2.3, AMJP-1A.2.4, AMJP-1A.6.4, AMJP-1A.6.5, AMJP-1A.6.6, AMJP-1A6.7 (available at www.transportation.gov/amjp/resources-recipients).

Type of Review: Renewal and revision of Information Collection previously approved.

Background: On March 11, 2021, the “American Rescue Plan Act of 2021” (ARPA), Public Law (Pub. L.) 117-2, was enacted. Sections 7201 and 7202 established the “Aviation Manufacturing Jobs Protection” (AMJP) program. The stated purpose of the program is “to provide public contributions to supplement compensation of an eligible employee group” (which is defined in the statute), by entering into agreements with qualifying business entities to pay up to half of the payroll costs for that group of employees for up to six months, in return for several commitments, including a commitment that the company will not involuntarily furlough or lay off employees within that group. Individual employees (including contract employees) are not eligible to apply for assistance under this program.

Application for assistance under the AMJP was voluntary. No business was required to apply. To be eligible, however, businesses were required to meet all the requirements set forth in the law. Therefore, DOT was required to collect certain information from applicants to determine eligibility. DOT must also verify the accuracy of specific payment requests from approved applicants, in accordance with other laws and regulations governing Federal financial assistance programs, including (but not limited to) the Antideficiency Act, the Federal Funding Accountability and Transparency Act (FFATA), the Payment Integrity Information Act of 2019, and applicable provisions in 2 CFR part 200, among others.

The ARPA required DOT to reduce funding on a pro rata basis if eligible requests exceeded available funds. Therefore, DOT planned to conduct a single-round, expedited application process to identify all eligible requests before beginning the award process.

Accordingly, DOT developed a process and system to enable businesses to apply for financial assistance under the AMJP. DOT used an online, web-based system to collect the information outlined in the notice at 86 FR 19695.

DOT subsequently announced the beginning of the application process on June 14, 2021, via notice at 86 FR 31573. DOT posted the application instructions online at https://www.transportation.gov/AMJP/apply. The application process was open for four weeks, from June 14, 2021 through July 13, 2021. DOT subsequently reopened the application process for another four-week period ending September 1, 2021.

Now that the application process is complete, DOT is renewing and updating this information collection. DOT will continue to require eligible recipients to attest that they continue to meet all the original eligibility requirements as previously outlined, as well as the following information:

• A sworn certification as to the complete and accurate nature of all information provided, including all supporting documentation, subject to civil or criminal penalties. The specific certification language is in the forms referenced above and section 4.8 of the General Terms And Conditions Under The Aviation Manufacturing Jobs Protection Program.¹

¹ See https://www.transportation.gov/amjp/resources-recipients for text of a sample AMJP agreement, including the General Terms and Conditions.

• After DOT determines eligibility and enters into an agreement with the applicant (referred to hereafter as “the recipient”), DOT will also require the recipient to provide the actual aggregate total cost of compensation for the Eligible Employee Group during the period of the agreement with DOT, in order for DOT to review and approve actual disbursements pursuant to the agreement. Recipients will be required to provide supporting documentation in sufficient detail to substantiate the actual costs, specifically excluding any Personally Identifiable Information (PII) for any individual employees. Recipients will also be required to provide additional supporting information and certifications in support of disbursement requests. See Forms AMJP-1A-6.4, AMJP-1A-6.6, and AMJP-1A-6.7.

• DOT may also ask recipient businesses to submit voluntary reports regarding demographic data associated with the workforce that is and is not included in the Eligible Employee Group. This would be voluntary on the part of the employer, and based solely on voluntary data self-reported by employees, disaggregated from any Personally Identifiable Information in order to avoid any potential privacy concerns. If a statistically valid sample can be developed, then it may be possible to extrapolate for reporting and program evaluation purposes. Such information may be used to support program evaluation.

• DOT may also ask recipient businesses to identify how they first learned about the AMJP program. Such information may be useful in implementation of future financial assistance programs.

DOT has updated the following estimated public burden figures based on the actual number of applications received as well as observations during the application review process. In order to help reduce the burden on recipients (and particularly on small businesses), DOT decided to make an initial disbursement shortly after award of each agreement. The initial disbursement is up to 50 percent of the award amount. This provides the recipient businesses with an immediate cash infusion, while also reducing the total number of disbursements and the cumulative paperwork required. DOT announced this decision in the application package published on June 15, 2021.

Respondents: Eligible business entities in the aviation manufacturing, maintenance, repair, and overhaul services based in the United States.

Number of Respondents: 600.

Frequency: Up to two disbursement requests and one final closeout report (including supporting payroll documentation and reporting requirements).

Total Annual Burden: Total burden, 16,800 hours (28 hours per respondent including 4 hours for each of 2 disbursement requests; 14 hours for required forms; 2 hours for voluntary demographic data; and 4 hours for closeout documentation).

Public Comments Invited: You are asked to comment on any aspect of this information collection, including (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended.

Issued in Washington, DC, on September 16, 2021.
Brian Elliott Black,
Program Director, Aviation Manufacturing Jobs Protection (AMJP) Program.

[FR Doc. 2021-20363 Filed 9-20-21; 8:45 am]

BILLING CODE 4910-9X-P